DEPARTMENT OF HOUSING AND URBAN DEVELOPMENT

[Docket No. FR-5191-N-32]

Notice of Proposed Information Collection: Comment Request; Single Family Mortgage Insurance on Hawaiian Homelands

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 8, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: Margaret E. Burns, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Mortgage Insurance on Hawaiian Homelands.

OMB Control Number, if applicable: 2502-0358.

Description of the need for the information and proposed use: FHA insures mortgages on single family dwellings under various provisions of the National Housing Act (12 U.S.C. 1701, et seq.). The Housing and Urban Rural Recovery Act (HURRA), Pub. L. 98-181, amended the National Housing Act to add Section 247 to permit FHA to insure mortgages for properties located on Hawaiian Homelands. Under this program, the mortgagor must be a Native Hawaiian. Section 247 requires that that the Department of Hawaiian Homelands (DHHL) of the State of Hawaii (a) Will be a co-mortgagor; (b) guarantees or reimburses the Secretary for any mortgage insurance claims paid in connection with a property on Hawaiian homelands; or (c) offers other security acceptable to the Secretary. The collection of information and the regulatory origins for them are in accordance with Section 203.43i which states that the lender will: (a) Verify that the loan applicant is a native Hawaiian and that the applicant holds a lease on land in a Hawaiian Homelands area; (b) report on delinquent borrowers in accordance with Section 203.439(c); and (c) provide documentation to HUD to support that the requirements of Section 203.665 have been met.

Agency form numbers, if applicable: None.

Estimation of the total number of hours needed to prepare the information collection including number of respondents, frequency of response, and hours of response: The estimated total number of hours needed to prepare the information collection is 1,744; the number of respondents is 504 generating approximately 1,456 annual responses; the frequency of response is on occasion; and the number of hours per response varies from 2 minutes to 30 minutes.

Status of the proposed information collection: This is an extension of a currently approved collection.

Authority: The Paperwork Reduction Act of 1995, 44 U.S.C., Chapter 35, as amended.

Dated: September 30, 2008.
Ronald Y. Spraker,
Acting General Deputy Assistant Secretary for Housing Deputy Federal Housing Commissioner.

[FR Doc. E8-23787 Filed 10-7-08; 8:45 am]

BILLING CODE 4210-67-P